DEPARTMENT OF HOMELAND SECURITY

Federal Emergency Management Agency

44 CFR Part 67

[Docket ID FEMA-2016-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective March 17, 2017. The date of issuance of the Flood Insurance Rate Map (FIRM) showing BFEs and modified BFEs for each community may be obtained by contacting the office where the maps are available for inspection as indicated in the table below.

ADDRESSES: The final BFEs for each community are available for inspection at the office of the Chief Executive Officer of each community. The respective addresses are listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the modified BFEs for each community listed. These modified elevations have been published in newspapers of local circulation and ninety (90) days have elapsed since that publication. The Deputy Associate Administrator for Insurance and Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. FEMA has reviewed this final rule for purposes of the National Environmental Policy Act of 1969 (42 U.S.C. 4321 et seq.) and has determined that this action will not have a significant effect on the human environment. This action is covered by categorical exclusions A4 and A 7 in Department of Homeland Security (DHS) Instruction 023-01-001-01, Appendix A.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Dated: December 21, 2016.
Roy E. Wright,
Deputy Associate Administrator for Insurance and Mitigation, Department of Homeland Security, Federal Emergency Management Agency.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Washington County, Oregon and Incorporated Areas
Docket Nos.: FEMA-B-7749 and B-7775
Beal Creek | Approximately 750 feet upstream of State Highway 47 Approximately 765 feet upstream of Main Street | +170 +172 | City of Forest Grove, Unincorporated Areas of Washington County.
Beaverton Creek | At upstream side of Southwest 197th Avenue Approximately 870 feet upstream of Southwest Laurelwood Avenue | +160 +267 | City of Beaverton, City of Hillsboro, Unincorporated Areas of Washington County.
Bethany Creek | Approximately 0.21 mile downstream of Northwest 185th Avenue Approximately 0.58 mile upstream of Northwest West Union Road | +174 +188 | Unincorporated Areas of Washington County.
Bronson Creek | Approximately 65 feet downstream of Northwest Anzalone Drive Approximately 1.0 mile upstream of Northwest West Union Road | +158 +238 | City of Beaverton, City of Hillsboro, Unincorporated Areas of Washington County.
Butternut Creek | Approximately 940 feet downstream of Southwest 209th Avenue Approximately 80 feet upstream of Southwest Farmington Road | +165 +200 | Unincorporated Areas of Washington County.
Cedar Creek | Approximately 0.4 mile downstream of Southwest Edy Road Approximately 560 feet upstream of Southwest Sunset Boulevard | +145 +176 | City of Sherwood, Unincorporated Areas of Washington County.
Cedar Mill Creek | Approximately 0.6 mile downstream of Portland & Western Railroad Approximately 90 feet upstream of Northwest 113th Avenue | +171 +300 | City of Beaverton, Unincorporated Areas of Washington County.
Cedar Mill Creek—North Overflow | At the Cedar Mill Creek confluence Approximately 250 feet upstream of Southwest 131st Avenue | +207 +213 | City of Beaverton, Unincorporated Areas of Washington County.
Cedar Mill Creek—South Overflow | At the Cedar Mill Creek confluence At the upstream side of Southwest Evergreen Street | +195 +205 | City of Beaverton, Unincorporated Areas of Washington County.
Cedar Mill Creek—Upper North Overflow | At the Cedar Mill Creek-North Overflow confluence Approximately 550 feet upstream of the Cedar Mill Creek-North Overflow confluence | +212 +214 | City of Beaverton, Unincorporated Areas of Washington County.
Celebrity Creek | At the Butternut Creek confluence Approximately 65 feet downstream of Southwest Farmington Road | +176 +212 | Unincorporated Areas of Washington County.
Chicken Creek | Approximately 0.8 mile downstream of Southwest Roy Rogers Road At the upstream side of Southwest Edy Road | +135 +157 | City of Sherwood, Unincorporated Areas of Washington County.
Chicken Creek—West Tributary | At the upstream side of Southwest Elwert Road Approximately 0.3 mile upstream of Southwest Elwert Road | +151 +156 | Unincorporated Areas of Washington County.
Council Creek | Approximately 0.25 mile downstream of Northwest Hobbs Road Approximately 0.39 mile downstream of Beal Road | +156 +166 | Unincorporated Areas of Washington County.
Dairy Creek | At the Tualatin River confluence Approximately 125 feet upstream of Northwest Susbauer Road | +152 +159 | City of Hillsboro, Unincorporated Areas of Washington County.
Dawson Creek | Approximately 317 feet upstream of Northwest Brookwood Avenue Approximately 0.3 mile upstream of Northwest Shute Road | +151 +184 | City of Hillsboro, Unincorporated Areas of Washington County.
Deer Creek | Approximately 475 feet downstream of Northwest Kahneeta Drive Approximately 90 feet upstream of Northwest 174th Avenue | +176 +202 | Unincorporated Areas of Washington County.
Erikson Creek | Approximately 211 feet upstream of Southwest 144th Avenue Approximately 322 feet upstream of Southwest 10th Street | +175 +203 | City of Beaverton.
Fanno Creek | At the Tualatin River confluence Approximately 0.3 mile downstream of Southwest Durham Road | +131 +131 | City of Durham, City of Tigard.
Glencoe Swale | Approximately 980 feet upstream of McKay Creek confluence Approximately 0.5 mile upstream of Northwest Sewell Road | +156 +201 | City of Hillsboro, Unincorporated Areas of Washington County.
Golf Creek | Approximately 390 feet upstream of Hall Creek confluence Approximately 625 feet upstream of 97th Avenue | +198 +223 | City of Beaverton, Unincorporated Areas of Washington County.
Gordon Creek | Approximately 275 feet upstream of Southwest River Road Approximately 0.25 mile upstream of Southwest 229th Avenue | +146 +196 | City of Hillsboro, Unincorporated Areas of Washington County.
Hall Creek | Approximately 175 feet downstream of the North Fork Hall Creek confluence At the downstream side of Southwest 87th Avenue | +181 +256 | City of Beaverton, Unincorporated Areas of Washington County.
Hall Creek—106th Tributary | At the Hall Creek confluence Approximately 600 feet upstream of Southwest 106th Avenue | +191 +245 | City of Beaverton, Unincorporated Areas of Washington County.
Hall Creek South Fork | Approximately 750 feet downstream of Southwest 96th Avenue Approximately 150 feet upstream of Southwest 86th Avenue | +213 +260 | City of Beaverton, Unincorporated Areas of Washington County.
Hedges Creek | At the downstream side of Southwest Boones Ferry Road Approximately 0.75 mile upstream of Southwest Teton Avenue | +129 +142 | City of Tualatin, Unincorporated Areas of Washington County.
Holcomb Creek | Approximately 500 feet upstream of Rock Creek North confluence Approximately 0.15 mile upstream of Northwest Plastics Drive | +178 +211 | Unincorporated Areas of Washington County.
McKay Creek | At the Dairy Creek confluence At the upstream side of Northwest Union Road | +156 +174 | City of Hillsboro, Unincorporated Areas of Washington County.
North Fork Hall Creek | At the Hall Creek confluence Approximately 0.4 mile upstream of Center Street | +181 +183 | City of Beaverton, Unincorporated Areas of Washington County.
North Johnson Creek | At the Cedar Mill Creek confluence Approximately 0.4 mile upstream of North Johnson Creek-East Tributary confluence | +187 +307 | City of Beaverton, Unincorporated Areas of Washington County.
North Johnson Creek—East Tributary | At the North Johnson Creek confluence Approximately 0.4 mile upstream of North Johnson Creek confluence | +249 +327 | Unincorporated Areas of Washington County.
North Johnson Creek—North Tributary | Approximately 0.24 mile downstream of Northwest 114th Avenue Approximately 0.22 mile upstream of Northwest 112th Avenue | +212 +343 | City of Beaverton, Unincorporated Areas of Washington County.
Rock Creek North | Approximately 0.47 mile downstream of Northwest Union Road Approximately 0.75 mile upstream of Old Cornelius Pass Road | +174 +247 | Unincorporated Areas of Washington County.
Rock Creek South | Approximately 750 feet downstream of Southwest Pacific Highway Approximately 0.32 mile upstream of Portland & Western Railroad | +134 +139 | City of Sherwood, Unincorporated Areas of Washington County.
South Johnson Creek | Approximately 800 feet downstream of Southwest Hart Road Approximately 160 feet upstream of Southwest Hart Road | +205 +219 | City of Beaverton, Unincorporated Areas of Washington County.
Storey Creek | Approximately 200 feet upstream of the Waible Creek confluence Approximately 0.80 mile upstream of Storey Creek-Middle Tributary confluence | +164 +197 | Unincorporated Areas of Washington County
Storey Creek—East Tributary | At the Storey Creek confluence Approximately 0.35 mile upstream of Northwest Sunset Highway | +173 +188 | Unincorporated Areas of Washington County.
Storey Creek—Middle Tributary | Approximately 870 feet upstream of the Storey Creek confluence At the upstream side of Northwest West Union Road | +180 +196 | Unincorporated Areas of Washington County.
Tualatin River | Approximately 490 feet downstream of the Tualatin River Overflow to Nyberg Slough confluence Approximately 0.3 mile upstream of Southwest Roy Rogers Road | +126 +135 | City of Durham, City of King City, City of Tigard, City of Tualatin, Unincorporated Areas of Washington County.
Tualatin River | Approximately 1.6 miles downstream of Southwest Golf Course Road Approximately 0.3 mile downstream of the Gales Creek confluence | +153 +168 | City of Cornelius, City of Hillsboro, Unincorporated Areas of Washington County.
Tualatin River—Golf Overflow | Approximately 150 feet downstream of Southwest Golf Course Road Approximately 1.0 mile upstream of Southwest Golf Course Road | +156 +162 | City of Forest Grove, Unincorporated Areas of Washington County.
Tualatin River—LaFollett Overflow | Approximately 0.3 mile upstream of Southwest Golf Course Road At the downstream side of Southwest LaFollett Road | +157 +160 | Unincorporated Areas of Washington County.
Tualatin River Overflow to Nyberg Slough | At the Tualatin River confluence Approximately 300 feet downstream of the divergence from the Tualatin River | +126 +129 | City of Tualatin.
Turner Creek | Approximately 450 feet downstream of Southeast 32nd Avenue Approximately 0.5 mile upstream of East Main Street | +147 +168 | City of Hillsboro.
Waible Creek | Approximately 0.25 mile upstream of McKay Creek confluence Approximately 0.25 mile upstream of the Waible Creek-North Tributary confluence | +160 +196 | Unincorporated Areas of Washington County.
Waible Creek—North Tributary | At the Waible Creek confluence At the upstream side of Northwest West Union Road | +192 +207 | City of Hillsboro, Unincorporated Areas of Washington County.
Waible Creek—South Tributary | At the Waible Creek confluence Approximately 90 feet upstream of Northwest Jacobson Road | +179 +211 | City of Hillsboro, Unincorporated Areas of Washington County.
West Fork Dairy Creek | Approximately 0.8 mile upstream of Northwest Wilson River Highway Approximately 0.72 mile downstream of Northwest Banks Road | +195 +196 | City of Banks.
Willow Creek | Approximately 400 feet upstream of Beaverton Creek confluence At the upstream side of Northwest 141st Place | +162 +239 | City of Beaverton, City of Hillsboro, Unincorporated Areas of Washington County.
* National Geodetic Vertical Datum. + North American Vertical Datum. # Depth in feet above ground. ‸ Mean Sea Level, rounded to the nearest 0.1 meter.
City of Banks
Maps are available for inspection at City Administrative Offices, 13680 Northwest Main Street, Banks, OR 97106.
City of Beaverton
Maps are available for inspection at Community Development Department, 4755 Southwest Griffith Drive, Beaverton, OR 97005.
City of Cornelius
Maps are available for inspection at the Planning Department, 1300 South Kodiak Circle, Cornelius, OR 97113.
City of Durham
Maps are available for inspection at City Hall, 17160 Southwest Upper Boones Ferry Road, Durham, OR 97224.
City of Forest Grove
Maps are available for inspection at City Hall, 1924 Council Street, Forest Grove, OR 97116.
City of Hillsboro
Maps are available for inspection at City Hall, 150 East Main Street, Hillsboro, OR 97123.
City of King City
Maps are available for inspection at City Hall, 15300 Southwest 116th Avenue, King City, OR 97224.
City of Sherwood
Maps are available for inspection at City Hall, 22560 Southwest Pine Street, Sherwood, OR 97140.
City of Tigard
Maps are available for inspection at City Hall, 13125 Southwest Hall Boulevard, Tigard, OR 97223.
City of Tualatin
Maps are available for inspection at City Hall, 18880 Southwest Martinazzi Avenue, Tualatin, OR 97062.
Unincorporated Areas of Washington County
Maps are available for inspection at the Washington County Public Services Building, 155 North 1st Avenue, Suite 350, Hillsboro, OR 97124.

[FR Doc. 2017-05154 Filed 3-16-17; 8:45 am]

BILLING CODE 9110-12-P